DEPARTMENT OF HOUSING AND URBAN DEVELOPMENT

[Docket No. FR-N-5281-N-57]

Notice of Submission of Proposed Information Collection to OMB; Emergency Comment Request, Healthy Home and Lead Hazard Control Grant Programs Data Collection—Progress Reporting

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: September 21, 2009.

ADDRESSES: Interested persons are invited to submit comments regarding this proposal. Comments should refer to the proposal by name and/or OMB approval number and should be sent to: Lillian L. Deitzer, Departmental Reports Management Officer, QDAM, Department of Housing and Urban Development, 451 Seventh Street, SW., Washington, DC 20410; Telephone (202) 402-8048, (this is not a toll-free number) or e-mail Ms Deitzer at Lillian.L.Deitzer@hud.gov; for a copy of the proposed form and other available information.

FOR FURTHER INFORMATION CONTACT: Warren Friedman, Senior Advisor, Office of Healthy Homes and Lead Hazard Control, L, Department of Housing and Urban Development, 451 Seventh Street, SW. Room 8236, Washington, DC 20410; e-mail: Warren.Friedman@hud.gov; telephone (202) 402-7574; Fax 202-708-0014. (This is not a toll-free number) for other available information. If you are a hearing-or-speech-impaired person, you may reach the above telephone numbers through TTY by calling the toll-free Federal Information Relay Service at 1-800-877-8339.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Healthy Home and Lead Hazard Control Grant Programs Data Collection-Progress Reporting.

OMB Control Number if applicable: 2539-0008.

Description of the need for the information and proposed use: This data collection is Designed to Provide HUD timely information on progress of Healthy Homes Demonstration Program, Healthy Homes Technical Studies Program, Lead Base paint Hazard Control Program, Lead Hazard Reduction Demonstration Program, Lead Outreach Program, Lead Technical Studies Program and Operation Lead Elimination Action Program grant activities. HUD will Provide Congress with status report as required by statue.

Agency form numbers, if applicable: HUD-96006.

Members of Affected Public: Business or other for-profit, Not-for-profit institutions, State, Local or Tribal Government.

Estimation of the total numbers of hours needed to prepare the information collection including number of responses, frequency of responses, and hours of responses: An estimation of the total numbers of hours needed to prepare the Information collection is 8,160, number of respondents is 255, frequency of response is “quarterly,” and the hours per Response is 32 hours.

Status of the proposed information collection: Revision of a currently approved collection.

Authority: The Paperwork Reduction Act of 1995, 44 U.S.C. Chapter 35, as amended.

Dated: July 17, 2009.
Lillian Deitzer,
Departmental Reports Management Officer, Office of the Chief Information Officer.

[FR Doc. E9-17471 Filed 7-21-09; 8:45 am]

BILLING CODE 4210-67-P